DEPARTMENT OF JUSTICE

Antitrust Division

Notice Pursuant to the National Cooperative Research and Production Act of 1993—International 2-Up ATV Manufacturers' Association

Notice is hereby given that, on September 28, 2004, pursuant to section 6(a) of the National Cooperative Research and Production Act of 1993, 15 U.S.C. 4301 et seq. (“the Act”), International 2-Up ATV Manufacturers' Association (“I2AMA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: International 2-Up ATV Manufacturers' Association, Prior Lake, MN. The nature and scope of I2AMA's standards development activities are: to develop proposed American National Standards for four-wheeled, two person tandem, all terrain vehicles (i.e. 2-Up ATV) based on knowledge, design, safety and testing of such vehicles.

Dorothy B. Fountain,
Deputy Director of Operations, Antitrust Division.

[FR Doc. 04-27541 Filed 12-15-04; 8:45 am]

BILLING CODE 4410-11-M